Title 3—

The President

Proclamation 10535 of March 24, 2023

Greek Independence Day: A National Day of Celebration of Greek and American Democracy, 2023

By the President of the United States of America

A Proclamation

Today, we honor the heroism of Greek revolutionaries who fought for their independence more than two centuries ago and celebrate the sacred idea that has always bound our great nations together: that “we the people” hold the power to shape our own destinies.

The story of our shared values and common purpose reaches back to America's founding, when ancient Athenian democracy helped inspire the Framers of our democracy to forge a new system of self-government. Just a few decades later, in 1821, when the courageous women and men of Greece rose up to declare their own independence from the Ottoman Empire, young patriots from the newly formed United States crossed the Atlantic to support the Greek fight for freedom. During World War II, Greeks and Americans joined together against the forces of fascism, understanding in their cores that democracy is worth the sacrifice.

Today, the alliance between Greece and the United States has never been stronger. Together, we are deepening our cooperation on climate and energy, trade and investment, pandemic response, disaster relief, and so much more to shape a healthier, more prosperous, and more just world. In the face of Russia's brutal aggression against Ukraine, Greece has once more demonstrated its moral courage and its values—condemning Russia's aggression and welcoming Ukrainian refugees. Every generation has to defeat democracy's mortal foes, and together, we will continue to show the world that the darkness that drives autocracy can never extinguish the flames of liberty.

As Greece and the United States meet the future together, the ties of family and the contributions of Greek Americans continue to strengthen our partnership at every turn. Greek Americans are leaders in every industry and every community, helping build an economy that works for everyone and working toward greater social justice for all. I have been blessed with lifelong friendships and political mentors in the Greek American community, and I have seen firsthand how Greek culture and values enrich our American fabric.

This Greek Independence Day, as we mark 202 years of friendship between the modern Hellenic Republic and the United States, let us recommit to defending democracy together—standing up for the rights, equality, and dignity of all people.

NOW, THEREFORE, I, JOSEPH R. BIDEN JR., President of the United States of America, by virtue of the authority vested in me by the Constitution and the laws of the United States, do hereby proclaim March 25, 2023, as Greek Independence Day: A National Day of Celebration of Greek and American Democracy. I call upon the people of the United States to observe this day with appropriate ceremonies and activities.

IN WITNESS WHEREOF, I have hereunto set my hand this twenty-fourth day of March, in the year of our Lord two thousand twenty-three, and of the Independence of the United States of America the two hundred and forty-seventh.

[FR Doc. 2023-06621

Filed 3-28-23; 8:45 am]

Billing code 3395-F3-P